OFFICE OF THE UNITED STATES TRADE REPRESENTATIVE

Request for Comments Concerning Free Trade Agreement With the Republic of Colombia

AGENCY: Office of the United States Trade Representative.

ACTION: Notice and request for comments.

SUMMARY: The United States Trade Representative (USTR) is conducting a review of labor-related issues in the context of the free trade agreement (FTA) between the United States and the Republic of Colombia (Colombia) signed on November 22, 2006, and amended on June 28, 2007. The FTA has not yet entered into effect. As part of that review, the interagency Trade Policy Staff Committee (TPSC) seeks comment from the public to assist the USTR in working with the Colombian government to secure continued progress in ensuring that Colombia's workers can fully exercise their fundamental labor rights.

DATES: Written comments are due by noon, September 15, 2009.

ADDRESSES: Comments should be submitted electronically via the Internet at http://www.regulations.gov. For alternatives to on-line submissions please contact Gloria Blue, Executive Secretary, Trade Policy Staff Committee, at (202) 395-3475.

FOR FURTHER INFORMATION CONTACT: For procedural questions concerning written comments, contact Gloria Blue, Executive Secretary, Trade Policy Staff Committee, at (202) 395-3475. All other questions should be directed to Bennett Harman, Deputy Assistant U.S. Trade Representative for Latin America, at (202) 395-9446.

SUPPLEMENTARY INFORMATION: On November 18, 2003, in accordance with section 2104(a)(1) of the Trade Act of 2002, the USTR notified Congress of the President's intent to enter into negotiations on an FTA with Colombia, identified specific objectives for the negotiations, and solicited comment from interested persons on matters relevant to the FTA. 69 FR 7532. On June 23, 2004, the U.S. Department of Labor with the USTR and U.S. Department of State, issued a request for comments from the public regarding labor rights in Andean countries, including Colombia. 69 FR No. 120. On August 24, 2006, the President notified Congress of his intent to enter into an FTA with Colombia, and representatives of the two governments signed the FTA on November 22, 2006. On June 28, 2007, the Parties amended the FTA to reflect the provisions of the May 10, 2007 Congressional-Executive Agreement on Trade Policy. The full text of the FTA is available at http://www.ustr.gov/trade-agreements/free-trade-agreements/colombia-fta/final-text.

Issues have been raised about the extent to which Colombians are able to exercise their fundamental labor rights, as referenced in the FTA. In that light, the President has asked the USTR to assess what steps can be taken, along with the government of Colombia, to secure continued progress in ensuring that Colombia's workers can exercise their fundamental labor rights. To assist the USTR in fulfilling this task, the Chairman of the TPSC invites interested persons to provide written comments on these questions and requests. Specific questions for comment are:

(1) Are there gaps in Colombia's labor law regime, including its enforcement mechanisms, with respect to providing for the fundamental labor rights of its citizens? If there are gaps, please identify them and provide specific suggestions for improvement.

(2) Is the Colombian government taking adequate steps to protect Colombia's workers from acts of intimidation or violence that impede the exercise of their fundamental labor rights? If there are gaps, please identify them and provide specific suggestions for improvement.

(3) Has the government of Colombia made sufficient progress in its efforts to prosecute the perpetrators of violence and intimidation against unionists exercising their fundamental labor rights? If there are gaps, please identify them and provide specific suggestions for improvement.

The public is also invited to comment on other issues they believe relevant to the FTA, including the potential benefits of the agreement.

Interested persons may submit written comments by noon, September 15, 2009 (see requirements for submission below). Written comments should be submitted in English and must state clearly the position taken and describe with particularity the supporting rationale.

Public Comment: Requirements for Submissions: To ensure the most timely and expeditious receipt and consideration of comments, USTR has arranged to accept on-line submissions via http://www.regulations.gov. To submit comments via http://www.regulations.gov, enter docket number USTR-2009-0021 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov Web site provides the option of making submissions by filling in a “General Comments” field, or by attaching a document. We expect that most submissions will be provided in an attached document. If a document is attached, it is sufficient to type “See attached” in the “General Comments” field.

Submissions in Microsoft Word (.doc) or Adobe Acrobat (.pdf) are preferred. If you use an application other than those two, please identify the application in your submission. For any comments submitted electronically containing business confidential information, the file name of the business confidential version should begin with the characters “BC”. Any page containing business confidential information must be clearly marked “BUSINESS CONFIDENTIAL” on the top of that page. If you file comments containing business confidential information you must also submit a public version of the comments. The file name of the public version should begin with the character “P”. The “BC” and “P” should be followed by the name of the person or entity submitting the comments. If you submit comments that contain no business confidential information, the file name should begin with the character “P”, followed by the name of the person or entity submitting the comments. Electronic submissions should not attach separate cover letters; rather, information that might appear in a cover letter should be included in the comments you submit. Similarly, to the extent possible, please include any exhibits, annexes, or other attachments to a submission in the same file as the submission itself and not as separate files.

We strongly urge submitters to use electronic filing. If an on-line submission is impossible, alternative arrangements must be made with Ms. Blue prior to delivery for the receipt of such submissions. Ms. Blue may be contacted at (202) 395-3475. General information concerning the Office of the United States Trade Representative may be obtained by accessing its Internet Web site (http://www.ustr.gov).

Carmen Suro-Bredie,
Chairman, Trade Policy Staff Committee.

[FR Doc. E9-17798 Filed 7-28-09; 8:45 am]

BILLING CODE 3190-W9-P